DEPARTMENT OF COMMERCE

International Trade Administration

[A-427-818]

Low Enriched Uranium From France: Final Results of the Expedited Second Sunset Review of the Antidumping Duty Order

AGENCY: Import Administration, International Trade Administration, Department of Commerce.

DATES: Effective Date: April 9, 2013.

SUMMARY: On December 1, 2012, the Department of Commerce (“Department”) initiated the second sunset review of the antidumping duty order on low enriched uranium (“LEU”) from France. The Department finds that revocation of this antidumping duty order would be likely to lead to continuation or recurrence of dumping at the rates identified in the “Final Results of Review” section of this notice.

FOR FURTHER INFORMATION CONTACT: Hilary Sadler or Dana Mermelstein, AD/CVD Operations, Office 6, Import Administration, International Trade Administration, U.S. Department of Commerce, 14th Street and Constitution Avenue NW., Washington, DC 20230; telephone (202) 482-4340 or (202) 482-1391, respectively.

SUPPLEMENTARY INFORMATION:

Background

The antidumping duty order on LEU from France was published on February 13, 2002. See Notice of Amended Final Determination of Sales at Less Than Fair Value and Antidumping Duty Order: Low Enriched Uranium From France, 67 FR 6680 (February 13, 2002).

On December 1, 2012, the Department initiated the second sunset review of this order pursuant to section 751(c) of the Tariff Act of 1930, as amended (the Act). See Initiation of Five-Year (“Sunset”) Review, 77 FR 71684 (December 3, 2012). The Department received a notice of intent to participate from USEC, Inc. and its subsidiary United States Enrichment Corporation (collectively, “USEC” or “domestic interested party”), within the deadline specified in 19 CFR 351.218(d)(1)(i). USEC is a manufacturer of a domestic like product in the United States and, accordingly, is a domestic interested party pursuant to section 771(9)(C) of the Act.

On January 3, 2013, the Department received an adequate substantive response to the notice of initiation from the domestic interested party within the 30-day deadline specified in 19 CFR 351.218(d)(3)(i). The Department received no response from the respondent interested parties, i.e., French uranium producers and exporters. On the basis of the notice of intent to participate and adequate substantive response filed by the domestic interested party and the inadequate response from the respondent interested parties, the Department has conducted an expedited sunset review of this order pursuant to section 751(c)(3)(B) of the Act and 19 CFR 351.218(e)(1)(ii)(C). As a result of this expedited sunset review, the Department finds that revocation of the antidumping duty order is likely to lead to continuation or recurrence of dumping at the levels indicated in the “Final Results of Review” section of this notice.

Scope of the Order

The product covered by the order is all low enriched uranium (“LEU”). LEU is enriched uranium hexafluoride (UF6) with a U²³⁵ product assay of less than 20 percent that has not been converted into another chemical form, such as UO2, or fabricated into nuclear fuel assemblies, regardless of the means by which the LEU is produced (including LEU produced through the downblending of highly enriched uranium).

Certain merchandise is outside the scope of the order. Specifically, the order does not cover enriched uranium hexafluoride with a U²³⁵ assay of 20 percent or greater, also known as highly enriched uranium. In addition, fabricated LEU is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are reexported within eighteen (18) months of entry of the LEU for consumption by the end-user in a nuclear reactor outside the United States. Such entries must be accompanied by the certifications of the importer and end user.

The merchandise subject to this order is classified in the Harmonized Tariff Schedule of the United States (“HTSUS”) at subheading 2844.20.0020. Subject merchandise may also enter under 2844.20.0030, 2844.20.0050, and 2844.40.00. Although the HTSUS subheadings are provided for convenience and customs purposes, the written description of the merchandise subject to the order is dispositive.

Analysis of Comments Received

All issues raised in this review are addressed in the Issues and Decision Memorandum (“Decision Memorandum”) from Edward C. Yang, Senior Director, China/Non-Market Economy Unit, to Paul Piquado, Assistant Secretary for Import Administration, dated April 2, 2013, which is hereby adopted by this notice. The issues discussed in the Decision Memorandum are the likelihood of continuation or recurrence of dumping, and the magnitude of the margins of dumping likely to prevail if the order were revoked. Parties can find a complete discussion of all issues raised in this review and the corresponding recommendations in this public memorandum which is on file electronically via Import Administration's Antidumping and Countervailing Duty Centralized Electronic Service System (IA ACCESS). IA ACCESS is available to registered users at http://iaaccess.trade.gov and is available to all parties in the Central Records Unit in room 7046 of the main Commerce building. In addition, a complete version of the Decision Memorandum can be accessed directly on the Internet at http://trade.gov/ia/. The signed Decision Memorandum and electronic versions of the Decision Memorandum are identical in content.

Final Results of Review

Pursuant to sections 752(c)(1) and (3) of the Act, we determine that revocation of the antidumping duty order on uranium from France would be likely to lead to continuation or recurrence of dumping. Further, we determine that the magnitude of the margins of dumping likely to prevail are as follows:

Exporter or producer | Margin (percent)
Eurodif S.A. and its affiliate AREVA NC (formerly known as Companie Générale des Matières Nucléaires—COGEMA) | 19.95
All Others | 19.95

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these final results and notice in accordance with sections 751(c), 752(c), and 777(i)(1) of the Act.

Dated: April 2, 2013.
Paul Piquado,
Assistant Secretary for Import Administration.

[FR Doc. 2013-08239 Filed 4-8-13; 8:45 am]

BILLING CODE 3510-DS-P